DEPARTMENT OF HOMELAND SECURITY

Federal Emergency Management Agency

[Docket ID FEMA-2015-0001]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Date: September 9, 2015.
Roy E. Wright,
Deputy Associate Administrator for Insurance and Mitigation, Department of Homeland Security, Federal Emergency Management Agency.

State and county | Location and case No. | Chief executive officer of community | Community map repository | Effective date of modification | Community No.
Idaho:
Blaine, (FEMA Docket No.: B-1503) | Unincorporated areas of Blaine County, (15-10-0206P) | Mr. Lawrence Schoen, Chairman, Blaine County Board of Commissioners, 206 1st Avenue South, Suite 300, Hailey, ID 83333 | Blaine County Planning and Zoning, 219 First Avenue South, Suite 208, Hailey, ID 83333 | Jul. 2, 2015 | 165167
Teton, (FEMA Docket No.: B-1503) | City of Driggs, (14-10-1657P) | The Honorable Hyrum Johnson, Driggs City Hall, Post Office Box 48, Driggs, ID 83422 | Driggs City Hall, 60 S. Main Street, Driggs, ID 83422 | Jul. 3, 2015 | 160166
Teton, (FEMA Docket No.: B-1503) | Unincorporated areas of Teton County, (14-10-1657P) | The Honorable Bill Leake, Chair, County Commissioners, Teton County Courthouse, 150 Courthouse Drive, Driggs, ID 83422 | Bruce Nye, 89 N. Main Street, Suite 6, Driggs, ID 83422 | Jul. 3, 2015 | 160230
Illinois:
McHenry, FEMA Docket No.: B-1506) | Village of Johnsburg, (14-05-5961P) | The Honorable Edwin P. Hettermann, President, Village of Johnsburg, 1515 Channel Beach Avenue, Johnsburg, IL 60051 | 1515 West Channel Beach Avenue, Johnsburg, IL 60050 | Jul. 14, 2015
Will, (FEMA Docket No.: B-1503) | City of Naperville, (15-05-1166P) | The Honorable A. George Pradel, Mayor, City of Naperville, 400 South Eagle Street, Naperville, IL 60540 | City Hall, 400 South Eagle Street, Naperville, IL 60540 | Jul. 2, 2015 | 170213
Will, (FEMA Docket No.: B-1503) | Unincorporated areas of Will County, (15-05-1166P) | The Honorable Lawrence Walsh, Will County Executive, 302 North Chicago Street, Joliet, IL 60432 | Will County Land Use, 58 East Clinton Street, Suite 500, Joliet, IL 60432 | Jul. 2, 2015 | 170695
Indiana:
Hamilton, (FEMA Docket No.: B-1503) | City of Carmel, (14-05-1139P) | The Honorable James Brainard, Mayor, City of Carmel, City Hall, One Civic Square, Carmel, IN 46032 | City of Carmel Department of Community Services, One Civic Square, Carmel, IN 46032 | Jun. 19, 2015 | 180081
Marion, (FEMA Docket No.: B-1503) | City of Indianapolis, (14-05-1139P) | The Honorable Gregory A. Ballard, Mayor, City of Indianapolis, 2501 City County Building, 200 East Washington Street, Indianapolis, IN 46204 | City-County Building, 200 East Washington Street, Indianapolis, IN 46204 | Jun. 19, 2015 | 180159
Kansas: Johnson, (FEMA Docket No.: B-1503) | City of Overland Park, (14-07-1371P) | The Honorable Carl Gerlach, Mayor, City of Overland Park, 8500 Santa Fe Drive, Overland Park, KS 66212 | City of Overland Park, 8500 Santa Fe Drive, Overland Park, KS 66212 | Jun. 25, 2015 | 200174
Minnesota: Hennepin, (FEMA Docket No.: (B-1509) | City of Brooklyn Park, (14-05-9322P) | The Honorable Jeffrey Lunde, Mayor, City of Brooklyn Park, 5200 85th Avenue North, Brooklyn Park, MN 55443 | Planning Department, 5200 85th Avenue North, Brooklyn Park, MN 55443 | Jun. 26, 2015 | 270152
Ohio:
Hocking, FEMA Docket No.: (B-1506) | City of Logan, (14-05-9281P) | The Honorable J. Martin Irvine, Mayor, City of Logan, 10 South Mulberry Street, Logan, OH 43138 | 10 S. Mulberry Street, Logan, OH 43138 | Jul. 13, 2015 | 390274
Hocking, FEMA Docket No.: (B-1506) | Unincorporated areas of Hocking County, (14-05-9281P) | Mr. Larry Dicken, County Commissioner, Hocking County, 1 East Main Street, Logan, OH 43138 | 88 South Market Street, Logan, OH 43138 | Jul. 13, 2015 | 390272
Warren, FEMA Docket No.: (B-1506) | City of Mason, (14-05-9134P) | The Honorable David Nichols, Mayor, City of Mason, 6000 Mason-Montgomery Road, Mason, OH 45040 | 6000 Mason-Montgomery Road, Mason, OH 45040 | Jul. 06, 2015 | 390559
Wisconsin:
Washington, FEMA Docket No.: (B-1506) | Village of Newburg, (15-05-0254P) | The Honorable William R. Sackett, President, Village of Newburg, Post Office Box 50, 614 Main Street, Newburg, WI 53060 | 614 Main Street, Newburg, WI 53060 | Jul. 1, 2015 | 550056
Washington, FEMA Docket No.: (B-1506) | Unincorporated areas of Washington County, (15-05-0254P) | The Honorable Herbert J. Tennies, Chairperson, Washington County, Courthouse Government Center, 432 East Washington Street, Suite 3029, West Bend, WI 53095 | 432 East Washington Street, West Bend, WI 53095 | Jul. 1, 2015 | 550471
Outagamie, FEMA Docket No.: (B-1503) | Unincorporated areas of Outagamie County, (15-05-1349P) | The Honorable Thomas M. Nelson, Outagamie County Executive, County Administration Building, 410 South Walnut Street, Appleton, WI 54911 | 410 South Walnut Street, Appleton, WI 54911 | Jun. 24, 2015 | 550302

[FR Doc. 2015-24757 Filed 9-29-15; 8:45 am]

BILLING CODE 9110-12-P